DEPARTMENT OF COMMERCE

National Oceanic and Atmospheric Administration

RIN 0648-XZ24

Magnuson-Stevens Act Provisions; General Provisions for Domestic Fisheries; Issuance of an Exempted Fishing Permit (EFP)

AGENCY: Department of Commerce, National Oceanic and Atmospheric Administration (NOAA), National Marine Fisheries Service (NMFS).

ACTION: Notification of issuance of a revised EFP to conduct exempted fishing.

SUMMARY: The Regional Administrator for Sustainable Fisheries, Northeast Region, NMFS, has issued a revised EFP in support of a drop chain small mesh net study conducted by the University of Rhode Island (URI). The study aims to reduce summer flounder discard mortality in the Loligo small-mesh fishery. The revised EFP includes an exemption for participating vessels from the Trimester III Loligo mesh size restrictions. This exemption is consistent with the goals and objectives of the Summer Flounder, Scup, and Black Sea Bass Fishery Management Plan (FMP) and the Atlantic Mackerel, Squid, and Butterfish FMP.

FOR FURTHER INFORMATION CONTACT: Sarah Heil, Fishery Management Specialist, (978) 281-9257.

SUPPLEMENTARY INFORMATION: On October 26, 2009, an EFP was issued to URI in support of a study that would test the effectiveness of a drop chain small mesh net in its ability to reduce catches of summer flounder in the small mesh fishery. The original EFP included exemptions from the summer flounder size restrictions specified at 50 CFR 648.103, scup size restrictions at § 648.124, scup possession limits at § 648.125, and squid and butterfish possession restrictions at § 648.25. The exemption from summer flounder size restrictions was granted to allow vessels to retain and land summer flounder for a delayed mortality monitoring period. The remaining exemptions were granted to allow incidental catch species to be temporarily retained for data collection purposes. Field work for this project began in April 2010, and 8 of the project's proposed 12 fishing trips have been completed. Research trips are conducted aboard two commercial fishing vessels, as normal fishing operations, using standard Loligo squid nets. Research trips conducted since April 2010 have used experimental and control nets with a codend mesh size of 1 7/8 in. (48 mm), consistent with the Loligo mesh size restrictions in place at the time.

Amendment 10 to the Atlantic Mackerel, Squid, and Butterfish FMP implemented an increase to the minimum mesh size for Loligo squid, from 1 7/8 in. (48 mm) to 2 1/8 in. (54 mm), during Trimester I (January to April) and Trimester III (September to December), effective September 13, 2010. This increase to the Loligo minimum mesh size was unanticipated at the time the original EFP application was submitted, and therefore, principal investigators did not request an exemption from Loligo mesh size restrictions. In addition, because the 2 1/8-in. (54-mm) minimum mesh size was not in place at the onset of field operations, research trips were completed using nets consistent with Loligo gear restrictions at that time.

On September 8, 2010, NMFS received a request from Kathy Castro of URI for an exemption from the new minimum mesh size for the Loligo fishery. This exemption was requested to allow completion of the project's remaining four research trips using the previous minimum mesh size of 1 7/8 in. (48 mm). A change to the nets used to conduct field sampling at this stage of the project would undermine data analysis in support of the project's objectives. Therefore, NMFS is reissuing the EFP in support of the drop chain study to facilitate the completion of the research project.

The revised EFP includes an exemption from the Loligo Trimester III minimum mesh size of 2 1/8 in. (54 mm) at § 648.23(3). An exemption from the Loligo mesh size restriction will allow the completion of the project's remaining research trips, using the previous minimum mesh size of 1 7/8 in. (48 mm). The exemption is within the scope and scale of the original approved EFP, and the overall impacts of research operations are unchanged from the initial review.

The applicants may request minor modifications and extensions to the EFP throughout the course of research. EFP modifications and extensions may be granted without further public notice if they are deemed essential to facilitate completion of the proposed research and result in only a minimal change in the scope or impacts of the initially approved EFP request.

Authority: 16 U.S.C. 1801 et seq.

Dated: September 21, 2010.
Carrie Selberg,
Acting Director, Office of Sustainable Fisheries, National Marine Fisheries Service.

[FR Doc. 2010-24022 Filed 9-23-10; 8:45 am]

BILLING CODE 3510-22-S